DEPARTMENT OF JUSTICE

[OMB Number 1121-XXXX]

Agency Information Collection Activities; Proposed eCollection; eComments Requested; Existing Collection in Use Without an OMB Control Number: AVUE Digital Services—Electronic Applications

AGENCY: Office of Justice Programs, Department of Justice.

ACTION: 30 Day notice.

SUMMARY: The Office of Justice Programs, Department of Justice (DOJ), will be submitting the following information collection request to the Office of Management and Budget (OMB) for review and approval in accordance with the Paperwork Reduction Act of 1995.

DATES: The Department of Justice encourages public comment and will accept input until November 30, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the Office of Justice Progrms, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Existing collection in use without an OMB Control Number.

2. The Title of the Form/Collection: The Avue Digital Services application for federal employment.

3. The agency form number, if any, and the applicable component of the Department sponsoring the collection: NA.

Sponsor: The Office of Justice Programs, Department of Justice.

4. Affected public who will be asked or required to respond, as well as a brief abstract: The primary respondents are public citizens who are applying for OJP federal positions. Avue is a web-based application system that provides automated support for posting federal vacancies. The applicants use the system to submit electronic applications for job vacancies. Candidates enter pertinent information and responds to a series of electronic screens and experience statements. The data is then certified and submitted for OJP HR Specialists to review and certify the applications. The candidate is automatically notified by email that his/her application has been received when he/she certifies and submits his/her electronic application and provided other status updates throughout the hiring cycle.

5. An Estimate of the Total Number of Respondents and the Amount of Time Estimated for an Average Respondent to Respond: In calendar year 2021, there were 1,707 applications submitted for jobs at OJP. A sampling of applicants who started and completed their OJP applications on the same day in 2021 was 740 applicants and using this sample, the system reported a total of 56,832 minutes for those 740 applications, or an average of 76.8 minutes (76 minutes, 48 seconds) spent on each application.

6. An Estimate of the Total Public Burden (in hours) Associated with the collection: The estimated public burden associated with this application is 949 hours in calendar year 2021. This is based on 740 applicants spending 77 (rounded up) minutes on each application for a total of 56,980 minutes.

If additional information is required contact: Robert Houser, Department Clearance Officer, Policy and Planning Staff, Justice Management Division, United States Department of Justice, Two Constitution Square, 145 N Street NE, Suite 3E.206, Washington, DC 20530.

Dated: October 25, 2022
Robert Houser,
Department Clearance Officer, Policy and Planning Staff, Office of the Chief Information Officer, U.S. Department of Justice.

[FR Doc. 2022-23592 Filed 10-28-22; 8:45 am]

BILLING CODE 4410-18-P